DEPARTMENT OF LABOR

Employment and Training Administration

[TA-W-51,023, TA-W-51,023A, TA-W-51,023B, TA-W-51,023C, TA-W-51,023D, TA-W-51,023E, TA-W-51,023F, TA-W-51,023G, TA-W-51,023H, and TA-W-51,023I]

National Steel Corporation, Mishawaka, IN; Granite City Division, Granite City, IL; Great Lakes Division, Ecorse, MI; Midwest Division, Portage, MI; ProCoil, Canton, MI; Techinical Research Center, Trenton, MI; National Steel Pellet Company, Keewatin, MI; NSL, Inc., Portage, IN; TMH, Portage, IN; Delray Connecting Railroad, Detroit, MI; Notice of Termination of Investigation

Pursuant to section 221 of the Trade Act of 1974, an investigation was initiated on February 28, 2003 in response to a worker petition dated February 26, 2003 filed by a company official on behalf of workers at ten facilities of National Steel Corporation: Headquarters, Mishawaka, Indiana; Granite City Division, Granite City, Illinois; Great lakes Division, Ecorse, Michigan; Midwest Division, Portage, Michigan; ProCoil, Canton, Michigan; Technical Research Center, Trenton, Michigan; National Steel Pellet Company, Keewatin, Minnesota; NSL, Inc., Portage, Indiana; TMH, Portage, Indiana; and Delray Connecting Railroad, Detroit, Michigan.

The petitioner has requested that the petition be withdrawn. Consequently, the investigation has been terminated.

Signed in Washington, DC, this 9th day of April 2003.
Richard Church,
Certifying Officer, Division of Trade Adjustment Assistance.

[FR Doc. 03-10143 Filed 4-23-03; 8:45 am]

BILLING CODE 4510-30-P